DEPARTMENT OF JUSTICE

Notice of Lodging Proposed Consent Decree

In accordance with Departmental Policy, 28 CFR 50.7, notice is hereby given that a proposed Consent Decree in United States, et al. v. XTO Energy, Inc., Civil Action No. 1:14-cv-00218-IMK, was lodged with the United States District Court for the Northern District of West Virginia, Clarksburg Division, on December 22, 2014.

This proposed Consent Decree concerns a complaint filed by the United States and the State of West Virginia against XTO Energy, Inc., pursuant to Section 301(a) of the Clean Water Act, 33 U.S.C. 1311(a), and the West Virginia Water Pollution Control Act, W. Va. Code Chapter 22, Article 11, et seq., to obtain injunctive relief from, and impose civil penalties on, the Defendant in connection with alleged discharges of pollutants at various locations in Harrison, Marion, and Upshur Counties in West Virginia and for violating the Clean Water Act by discharging pollutants without a permit into waters of the United States. The proposed Consent Decree resolves these allegations by requiring the Defendant to restore the impacted areas and/or perform mitigation and to pay a civil penalty.

The Department of Justice will accept written comments relating to this proposed Consent Decree for thirty (30) days from the date of publication of this Notice. Please address comments to Kenneth C. Amaditz, Trial Attorney, United States Department of Justice, Environment and Natural Resources Division, Environmental Defense Section, Post Office Box 7611, Washington, DC 20044 and refer to United States, et al. v. XTO Energy, Inc., DJ # 90-5-1-1-19518.

The proposed Consent Decree may be examined at the Clerk's Office, United States District Court for the Northern District of West Virginia, Clarksburg Division, 500 West Pike Street, Room 301, Clarksburg, WV 26302. In addition, the proposed Consent Decree may be examined electronically at http://www.justice.gov/enrd/Consent_Decrees.html.

Cherie L. Rogers,
Assistant Section Chief, Environmental Defense Section, Environment and Natural Resources Division.

[FR Doc. 2014-30904 Filed 1-5-15; 8:45 am]

BILLING CODE 4410-15-P